DEPARTMENT OF HOMELAND SECURITY

Federal Emergency Management Agency

44 CFR Part 64

[Docket ID FEMA-2013-0002; Internal Agency Docket No. FEMA-8295]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: Effective Dates: The effective date of each community's scheduled suspension is the third date (“Susp.”) listed in the third column of the following tables.

FOR FURTHER INFORMATION CONTACT: If you want to determine whether a particular community was suspended on the suspension date or for further information, contact David Stearrett, Federal Insurance and Mitigation Administration, Federal Emergency Management Agency, 500 C Street SW., Washington, DC 20472, (202) 646-2953.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR Part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR Part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR Part 64 is amended as follows:

PART 64—[AMENDED]

1. The authority citation for Part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Rhode Island:
Central Falls, City of, Providence County | 445394 | November 6, 1970, Emerg; May 28, 1971, Reg; September 18, 2013, Susp. | September 18, 2013 | September 18, 2013
Cranston, City of, Providence County | 445396 | September 11, 1970, Emerg; August 27, 1971, Reg; September 18, 2013, Susp. | ......do* | Do.
Cumberland, Town of, Providence County | 440016 | July 15, 1975, Emerg; December 16, 1980, Reg; September 18, 2013, Susp. | ......do | Do.
East Greenwich, Town of, Kent County | 445397 | July 16, 1971, Emerg; February 9, 1973, Reg; September 18, 2013, Susp. | ......do | Do.
East Providence, City of, Providence County | 445398 | June 5, 1970, Emerg; May 18, 1973, Reg; September 18, 2013, Susp. | ......do | Do.
Lincoln, Town of, Providence County | 445400 | May 5, 1972, Emerg; November 30, 1973, Reg; September 18, 2013, Susp. | ......do | Do.
Pawtucket, City of, Providence County | 440022 | January 15, 1971, Emerg; July 16, 1971, Reg; September 18, 2013, Susp. | ......do | Do.
Providence, City of, Providence County | 445406 | September 11, 1970, Emerg; December 11, 1970, Reg; September 18, 2013, Susp. | ......do | Do.
Warwick, City of, Kent County | 445409 | June 19, 1970, Emerg; April 6, 1973, Reg; September 18, 2013, Susp. | ......do | Do.
Region IV
Georgia:
Chattahoochee Hills, City of, Fulton County | 135174 | N/A, Emerg; July 30, 2008, Reg; September 18, 2013, Susp. | ......do | Do.
East Point, City of, Fulton County | 130087 | January 28, 1972, Emerg; March 15, 1977, Reg; September 18, 2013, Susp. | ......do | Do.
Fulton County, Unincorporated Areas | 135160 | November 20, 1970, Emerg; October 29, 1971, Reg; September 18, 2013, Susp. | ......do | Do.
Hapeville, City of, Fulton County | 130502 | N/A, Emerg; July 2, 1996, Reg; September 18, 2013, Susp. | ......do | Do.
Milton, City of, Fulton County | 130673 | N/A, Emerg; August 10, 2007, Reg; September 18, 2013, Susp. | ......do | Do.
Mountain Park, City of, Fulton County | 130315 | April 7, 1983, Emerg; April 7, 1983, Reg; September 18, 2013, Susp. | ......do | Do.
Roswell, City of, Fulton County | 130088 | November 21, 1973, Emerg; December 15, 1977, Reg; September 18, 2013, Susp. | ......do | Do.
Sandy Springs, City of, Fulton County | 130669 | N/A, Emerg; May 10, 2007, Reg; September 18, 2013, Susp. | ......do | Do.
Union City, City of, Fulton County | 130316 | July 29, 1975, Emerg; September 28, 1979, Reg; September 18, 2013, Susp. | ......do | Do.
Region V
Illinois:
Antioch, Village of, Lake County | 170358 | May 12, 1975, Emerg; June 15, 1981, Reg; September 18, 2013, Susp. | ......do | Do.
Bannockburn, Village of, Lake County | 170359 | March 7, 1975, Emerg; June 15, 1979, Reg; September 18, 2013, Susp. | ......do | Do.
Barrington, Village of, Cook and Lake Counties | 170057 | October 30, 1974, Emerg; October 16, 1984, Reg; September 18, 2013, Susp. | ......do | Do.
Barrington Hills, Village of, Cook, Kane, Lake and McHenry Counties | 170058 | April 3, 1975, Emerg; August 10, 1979, Reg; September 18, 2013, Susp. | ......do | Do.
Beach Park, Village of, Lake County | 171022 | N/A, Emerg; June 13, 1994, Reg; September 18, 2013, Susp. | ......do | Do.
Buffalo Grove, Village of, Cook and Lake Counties | 170068 | November 17, 1972, Emerg; September 14, 1979, Reg; September 18, 2013, Susp. | ......do | Do.
Deer Park, Village of, Cook and Lake Counties | 171028 | February 17, 1993, Emerg; September 3, 1997, Reg; September 18, 2013, Susp. | ......do | Do.
Deerfield, Village of, Cook and Lake Counties | 170361 | October 13, 1972, Emerg; September 30, 1977, Reg; September 18, 2013, Susp. | ......do | Do.
Fox Lake, Village of, Lake and McHenry Counties | 170362 | March 9, 1973, Emerg; September 29, 1978, Reg; September 18, 2013, Susp. | ......do | Do.
Fox River Grove, Village of, Lake and McHenry Counties | 170477 | April 17, 1973, Emerg; June 4, 1980, Reg; September 18, 2013, Susp. | ......do | Do.
Grayslake, Village of, Lake County | 170363 | December 11, 1973, Emerg; June 4, 1980, Reg; September 18, 2013, Susp. | ......do | Do.
Green Oaks, Village of, Lake County | 170364 | March 12, 1974, Emerg; March 2, 1981, Reg; September 18, 2013, Susp. | ......do | Do.
Gurnee, Village of, Lake County | 170365 | August 9, 1974, Emerg; December 16, 1980, Reg; September 18, 2013, Susp. | ......do | Do.
Hainesville, Village of, Lake County | 171005 | N/A, Emerg; May 11, 1995, Reg; September 18, 2013, Susp. | ......do | Do.
Hawthorn Woods, Village of, Lake County | 170366 | October 28, 1983, Emerg; November 2, 1983, Reg; September 18, 2013, Susp. | ......do | Do.
Highland Park, City of, Lake County | 170367 | April 5, 1973, Emerg; November 5, 1980, Reg; September 18, 2013, Susp. | ......do | Do.
Island Lake, Village of, Lake and McHenry Counties | 170370 | January 24, 1975, Emerg; September 16, 1982, Reg; September 18, 2013, Susp. | ......do | Do.
Kildeer, Village of, Lake County | 170371 | March 21, 1975, Emerg; March 2, 1981, Reg; September 18, 2013, Susp. | ......do | Do.
Lake Barrington, Village of, Lake County | 170372 | June 25, 1975, Emerg; January 2, 1981, Reg; September 18, 2013, Susp. | ......do | Do.
Lake Bluff, Village of, Lake County | 170373 | May 11, 1981, Emerg; May 11, 1981, Reg; September 18, 2013, Susp. | ......do | Do.
Lake County, Unincorporated Areas | 170357 | April 4, 1973, Emerg; November 3, 1982, Reg; September 18, 2013, Susp. | ......do | Do.
Lake Forest, City of, Lake County | 170374 | April 23, 1974, Emerg; February 18, 1981, Reg; September 18, 2013, Susp. | ......do | Do.
Lake Villa, Village of, Lake County | 170375 | October 16, 1974, Emerg; July 2, 1981, Reg; September 18, 2013, Susp. | ......do | Do.
Lake Zurich, Village of, Lake County | 170376 | October 11, 1974, Emerg; July 5, 1983, Reg; September 18, 2013, Susp. | ......do | Do.
Lakemoor, Village of, Lake and McHenry Counties | 170915 | March 5, 1976, Emerg; January 19, 1983, Reg; September 18, 2013, Susp. | ......do | Do.
Libertyville, Village of, Lake County | 170377 | February 16, 1973, Emerg; January 16, 1980, Reg; September 18, 2013, Susp. | ......do | Do.
Lincolnshire, Village of, Lake County | 170378 | January 26, 1973, Emerg; July 16, 1980, Reg; September 18, 2013, Susp. | ......do | Do.
Lindenhurst, Village of, Lake County | 170379 | December 27, 1974, Emerg; January 2, 1980, Reg; September 18, 2013, Susp. | ......do | Do.
Long Grove, Village of, Lake County | 170380 | February 3, 1975, Emerg; May 19, 1981, Reg; September 18, 2013, Susp. | ......do | Do.
Mettawa, Village of, Lake County | 170381 | March 20, 1979, Emerg; March 28, 1980, Reg; September 18, 2013, Susp. | ......do | Do.
Mundelein, Village of, Lake County | 170382 | March 30, 1973, Emerg; July 2, 1981, Reg; September 18, 2013, Susp. | ......do | Do.
North Barrington, Village of, Lake County | 170383 | May 27, 1975, Emerg; October 18, 1983, Reg; September 18, 2013, Susp. | ......do | Do.
North Chicago, City of, Lake County | 170384 | July 3, 1974, Emerg; December 5, 1980, Reg; September 18, 2013, Susp. | ......do | Do.
Old Mill Creek, Village of, Lake County | 170385 | August 8, 1975, Emerg; August 1, 1980, Reg; September 18, 2013, Susp. | ......do | Do.
Park City, City of, Lake County | 170386 | November 12, 1975, Emerg; October 15, 1981, Reg; September 18, 2013, Susp. | ......do | Do.
Port Barrington, Village of, Lake and McHenry Counties | 170478 | January 19, 1973, Emerg; March 4, 1980, Reg; September 18, 2013, Susp. | ......do | Do.
Riverwoods, Village of, Lake County | 170387 | August 21, 1975, Emerg; August 15, 1980, Reg; September 18, 2013, Susp. | ......do | Do.
Round Lake, Village of, Lake County | 170388 | September 13, 1974, Emerg; August 1, 1980, Reg; September 18, 2013, Susp. | ......do | Do.
Round Lake Beach, Village of, Lake County | 170389 | March 12, 1975, Emerg; August 1, 1980, Reg; September 18, 2013, Susp. | ......do | Do.
Round Lake Heights, Village of, Lake County | 170390 | August 5, 1974, Emerg; January 2, 1980, Reg; September 18, 2013, Susp. | ......do | Do.
Round Lake Park, Village of, Lake County | 170391 | July 21, 1975, Emerg; June 4, 1980, Reg; September 18, 2013, Susp. | ......do | Do.
Third Lake, Village of, Lake County | 170392 | December 26, 1975, Emerg; February 1, 1980, Reg; September 18, 2013, Susp. | ......do | Do.
Tower Lakes, Village of, Lake County | 170393 | May 9, 1975, Emerg; March 2, 1981, Reg; September 18, 2013, Susp. | ......do | Do.
Vernon Hills, Village of, Lake County | 170394 | March 24, 1975, Emerg; August 1, 1980, Reg; September 18, 2013, Susp. | ......do | Do.
Volo, Village of, Lake County | 171042 | N/A, Emerg; April 3, 1998, Reg; September 18, 2013, Susp. | ......do | Do.
Wadsworth, Village of, Lake County | 170395 | August 1, 1975, Emerg; February 4, 1981, Reg; September 18, 2013, Susp. | ......do | Do.
Wauconda, Village of, Lake County | 170396 | January 13, 1975, Emerg; December 1, 1981, Reg; September 18, 2013, Susp. | ......do | Do.
Waukegan, City of, Lake County | 170397 | March 12, 1974, Emerg; June 15, 1981, Reg; September 18, 2013, Susp. | ......do | Do.
Wheeling, Village of, Cook and Lake Counties | 170173 | December 15, 1972, Emerg; September 15, 1978, Reg; September 18, 2013, Susp. | ......do | Do.
Winthrop Harbor, Village of, Lake County | 170398 | July 10, 1975, Emerg; December 2, 1980, Reg; September 18, 2013, Susp. | ......do | Do.
Zion, City of, Lake County | 170399 | May 24, 1974, Emerg; January 16, 1981, Reg; September 18, 2013, Susp. | ......do | Do.
Indiana:
La Fontaine, Town of, Wabash County | 180267 | June 4, 1975, Emerg; April 17, 1987, Reg; September 18, 2013, Susp. | ......do | Do.
Lagro, Town of, Wabash County | 180268 | August 15, 1975, Emerg; June 18, 1987, Reg; September 18, 2013, Susp. | ......do | Do.
North Manchester, Town of, Wabash County | 180269 | March 24, 1975, Emerg; August 19, 1985, Reg; September 18, 2013, Susp. | ......do | Do.
Roann, Town of, Wabash County | 180270 | September 16, 1975, Emerg; May 4, 1988, Reg; September 18, 2013, Susp. | ......do | Do.
Wabash, City of, Wabash County | 180271 | October 28, 1975, Emerg; January 18, 1984, Reg; September 18, 2013, Susp. | ......do | Do.
Wabash County, Unincorporated Areas | 180266 | April 3, 1975, Emerg; August 19, 1986, Reg; September 18, 2013, Susp. | ......do | Do.
Region VI
Louisiana:
Delhi, Town of, Richland Parish | 220155 | March 6, 1975, Emerg; January 8, 1980, Reg; September 18, 2013, Susp. | ......do | Do.
Mangham, Town of, Richland Parish | 220156 | August 2, 1974, Emerg; October 9, 1979, Reg; September 18, 2013, Susp. | ......do | Do.
Rayville, Town of, Richland Parish | 220157 | May 14, 1973, Emerg; September 3, 1980, Reg; September 18, 2013, Susp. | ......do | Do.
Richland Parish, Unincorporated Areas | 220154 | May 14, 1973, Emerg; August 1, 1987, Reg; September 18, 2013, Susp. | ......do | Do.
*-do- = Ditto.
Code for reading third column: Emerg.—Emergency; Reg.—Regular; Susp.—Suspension.

Dated: August 1, 2013.
David L. Miller,
Associate Administrator, Federal Insurance and Mitigation Administration, Department of Homeland Security, Federal Emergency Management Agency.

[FR Doc. 2013-21760 Filed 9-5-13; 8:45 am]

BILLING CODE 9110-12-P